GENERAL SERVICES ADMINISTRATION

41 CFR Part 302-16

[FTR Amendment 2011-02; FTR Case 2011-306; Docket Number 2011-0013, Sequence 1]

RIN 3090-AJ17

Federal Travel Regulation (FTR); Miscellaneous Expense Allowance (MEA)

AGENCY: Office of Governmentwide Policy, General Services Administration (GSA).

ACTION: Final rule.

SUMMARY: GSA is amending the Federal Travel Regulation (FTR) by increasing the set lump-sum rate amount to be paid for the miscellaneous expenses allowance (MEA), when the employee chooses not to provide documentation of miscellaneous expenses.

DATES: Effective date: This final rule is effective on July 18, 2011.

FOR FURTHER INFORMATION CONTACT: The Regulatory Secretariat (MVCB), 1275 First Street, NE., Washington, DC 20417, (202) 501-4755, for information pertaining to status or publication schedules. For clarification of content, contact Rick Miller, Office of Governmentwide Policy, Travel Management Policy, at (202) 501-3822 or e-mail at rodney.miller@gsa.gov. Please cite FTR Amendment 2011-02; FTR case 2011-306.

SUPPLEMENTARY INFORMATION:

A. Background

Pursuant to 5 U.S.C. 5738, the Administrator of General Services is authorized to prescribe regulations necessary to implement laws regarding Federal employees when assigned a temporary change of station or when otherwise officially relocated. The overall implementing authority is the Federal Travel Regulation (FTR) (41 CFR Chapters 300-304).

Pursuant to 5 U.S.C. 5724a(f), an employee who is transferred in the interest of the Government is entitled to reimbursement for certain miscellaneous expenses. The purpose of the miscellaneous expense allowance (MEA) is to defray various contingent costs associated with discontinuing a residence at one location and establishing a residence at a new location. The costs covered include items such as fees for disconnecting and connecting appliances, cutting and fitting rugs, draperies, and curtains moved from one residence to another, utility fees or deposits that are not offset by eventual refunds, forfeiture of medical, dental, and other non-transferrable contracts, and the cost of automobile registration and driver's licenses.

The FTR provides that a MEA may be paid in one of two alternative amounts. A transferring employee without an immediate family is automatically entitled to a lump-sum of one week's basic gross pay, up to $500, and an employee with an immediate family is entitled to a lump-sum of two weeks' basic gross pay, up to $1000. If additional amounts are justified, with supporting documentation, MEA may be reimbursed up to a maximum of one or two weeks basic pay depending on whether or not the employee has an immediate family, not to exceed the maximum rate payable for a position at GS-13, Step 10, of the General Schedule provided in 5 U.S.C. 5332. Since the establishment of MEA in 1966, the lump-sum has only been increased twice. The last increase was on February 19, 2002.

This final rule will revise section 302-16.102 of the FTR by increasing the lump sums from $500 to $650 for employees with no immediate family and from $1000 to $1300, for employees who have an immediate family. These figures are based upon an increase in the Consumer Price Index.

This final rule also makes one clerical correction to section 302-16.104.

B. Executive Orders 12866 and 13563

Executive Orders 12866 and 13563 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This is not a significant regulatory action and, therefore, was not subject to review under Section 6(b) of Executive Order 12866, Regulatory Planning and Review, dated September 30, 1993. This rule is not a major rule under 5 U.S.C. 804.

C. Regulatory Flexibility Act

This final rule will not have significant economic impact on a substantial number of small entities within the meaning of the Regulatory Flexibility Act, 5 U.S.C. 601, et seq. This final rule is also exempt from Regulatory Flexibility Act per 5 U.S.C. 553(a)(2), because it applies to agency management or personnel. However, this final rule is being published to provide transparency in the promulgation of Federal policies.

D. Paperwork Reduction Act

The Paperwork Reduction Act does not apply because the changes to the FTR do not impose recordkeeping or information collection requirements, or the collection of information from offerors, contractors, or members of the public that require the approval of the Office of Management and Budget under 44 U.S.C. 3501, et seq.

E. Small Business Regulatory Enforcement Fairness Act

This final rule is also exempt from congressional review prescribed under 5 U.S.C. 801 since it relates solely to agency management and personnel.

List of Subjects in 41 CFR Part 302-16

Government employees, Relocation, Travel, and Transportation expenses.

Dated: May 5, 2011.
Martha Johnson,
Administrator of General Services.

For the reasons set forth in the preamble, pursuant to 5 U.S.C. 5721-5738, 41 CFR part 302-16 is amended to read as follows:

PART 302-16—ALLOWANCE FOR MISCELLANEOUS EXPENSES

1. The authority citation for 41 CFR part 302-16 continues to read as follows:

Authority: 5 U.S.C. 5738; 20 U.S.C. 905(a); E.O. 11609, 36 FR 13747; 3 CFR 1971-1975 Comp., p. 586.

§ 302-16.102 [Amended]

2. Amend § 302-16.102 by—

a. Removing “$500” in paragraph (a) and adding “$650” in its place.

b. Removing “$1,000” in paragraph (b) and adding “$1,300” in its place.

§ 302-16.104 [Amended]

3. Amend § 302-16.104 by removing “§ 302-16.101” and adding “§ 302-16.102” in its place.

[FR Doc. 2011-14890 Filed 6-15-11; 8:45 am]

BILLING CODE 6820-14-P